POSTAL SERVICE

39 CFR Part 20

Known Mailer and Exceptions

AGENCY: Postal Service™.

ACTION: Proposed rule.

SUMMARY: The Postal Service proposes amending Mailing Standards of the United States Postal Service, International Mail Manual (IMM®) in various sections to remove the “known mailer” definition and exceptions for customs declarations.

DATES: Submit comments on or before June 12, 2023.

ADDRESSES: Mail or deliver written comments to the Director, Product Classification, U.S. Postal Service, 475 L'Enfant Plaza SW, Room 4446, Washington, DC 20260-5015. If sending comments by email, include the name and address of the commenter and send to PCFederalRegister@usps.gov, with a subject line of “IMM Known Mailer and Exceptions.” Faxed comments will not be accepted.

Confidentiality

All submitted comments and attachments are part of the public record and subject to disclosure. Do not enclose any material in your comments that you consider confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Vlad Spanu at (202) 268-4180 or Kathy Frigo at (202) 268-4178.

SUPPLEMENTARY INFORMATION: The Postal Service proposes removing IMM section 123.62 regarding known mailers in its entirety, and other related information in the IMM associated with known mailers, as noted in this article. This proposal helps align postal regulations with current customs policy.

Associated revisions to the DMM will be published separately.

Although exempt from the notice and comment requirements of the Administrative Procedure Act (5 U.S.C. 553(b), (c)) regarding proposed rulemaking by 39 U.S.C. 410(a), the Postal Service invites public comment on the following proposed revisions to Mailing Standards of the United States Postal Service, International Mail Manual (IMM), incorporated by reference in the Code of Federal Regulations. See 39 CFR 20.1.

We will publish an appropriate amendment to 39 CFR part 20 to reflect these changes.

List of Subjects in 39 CFR Part 20

Administrative practice and procedure, Postal Service.

Accordingly, 39 CFR part 20 is proposed to be amended as follows:

PART 20—[AMENDED.]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the Mailing Standards of the United States Postal Service, International Mail Manual (IMM) as follows:

Mailing Standards of the United States Postal Service, International Mail Manual (IMM)

* * * * *

1 International Mail Services

* * * * *

120 Preparation for Mailing

* * * * *

123 Customs Forms and Online Shipping Labels

* * * * *

123.6 Required Usage

123.61 Conditions

* * * * *

[Revise a. to read as follows:]

a. Mailers use the hard copy PS Form 2976-R and present it at a USPS retail service counter, or use an electronic PS Form 2976, PS Form 2976-A, or PS Form 2976-B as described in Exhibit 123.61.

* * * * *

Exhibit 123.61

Customs Declaration Form Usage by Mail Category

* * * * *

[In the section “First-Class Package International Service Packages (Small Packets), as well as IPA Packages (Small Packets) and ISAL Packages (Small Packets),” remove the 2nd row (beginning with “All package-size items . . .”) in its entirety.]

* * * * *

[Remove section 123.62, “Known Mailers,” in its entirety, renumbering current sections 123.63 and 123.64 to be 123.62 and 123.63, respectively, and renumbering all associated references in Exhibit 123.61 accordingly.]

* * * * *

2 Conditions for Mailing

* * * * *

270 Free Matter for the Blind

* * * * *

272 Eligibility

* * * * *

272.4 Customs Form Required

[Remove the second sentence.]

Sarah E. Sullivan,
Attorney, Ethics and Legal Compliance.

[FR Doc. 2023-09909 Filed 5-11-23; 8:45 am]

BILLING CODE 7710-12-P